DEPARTMENT OF THE INTERIOR

Bureau of Reclamation

[RR03042000, 25XR0680A1, RX.18786000.1501100; OMB Control Number 1006-0014]

Agency Information Collection Activities; Lower Colorado River Well Inventory

AGENCY: Bureau of Reclamation, Interior.

ACTION: Notice of information collection; request for comments.

SUMMARY: In accordance with the Paperwork Reduction Act of 1995, we, the Bureau of Reclamation, are proposing to renew an information collection.

DATES: Interested persons are invited to submit comments. To be considered, your comments must be received on or before July 15, 2025.

ADDRESSES: Send your comments on this information collection request (ICR) by mail to Kerim Dickson, Water Accounting and Verification Group Team Lead, LC-4200, Bureau of Reclamation, Lower Colorado Basin Regional Office, P.O. Box 61470, Boulder City, Nevada 89006-1470; or by email to kdickson@usbr.gov. Please reference Office of Management and Budget (OMB) Control Number 1006-0014 in the subject line of your comments.

FOR FURTHER INFORMATION CONTACT: Kerim Dickson by email at kdickson@usbr.gov, or by telephone at (702) 293-8574. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act of 1995 (PRA, 44 U.S.C. 3501 et seq.) and 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract. All diversion of mainstream Colorado River water must be in accordance with the Colorado River water entitlement pursuant to the Boulder Canyon Project Act (43 U.S.C. 617; Pub. L. 70-642, 45 Stat. 1057). The Consolidated Decree of the United States Supreme Court in Arizona v. California, 547 U.S. 150 (2006) requires the Secretary of the Interior to account for all diversions of mainstream Colorado River water along the lower Colorado River, including water drawn from the mainstream by underground pumping. To meet the water entitlement and accounting obligations, an inventory of wells and river pumps is required along the lower Colorado River that gathers specific information concerning these wells, such as water level, pumping volume, and permit number.

Title of Collection: Lower Colorado River Well Inventory.

OMB Control Number: 1006-0014.

Form Numbers: Form LC-25.

Type of Review: Extension of a currently approved collection.

Respondents/Affected Public: Well and river-pump owners and operators along the lower Colorado River in Arizona, California, and Nevada. Each diverter (including well pumpers) must be identified and their diversion locations and water use determined.

Total Estimated Number of Annual Respondents: 50.

Total Estimated Number of Annual Responses: 50.

Estimated Completion Time per Respondent: An average of 20 minutes is required to interview individual well and river-pump owners or operators.

Total Estimated Number of Annual Burden Hours: 17 hours.

Respondent's Obligation: Required to obtain a benefit.

Frequency of Collection: These data are collected only once for each well or river-pump owner or operator as long as changes in water use, or other changes that would impact contractual or administrative requirements, are not made. A respondent may request that the data for its well or river pump be updated after the initial inventory.

Total Estimated Annual Nonhour Burden Cost: None.

An agency may not conduct or sponsor and a person is not required to respond to a collection of information unless it displays a currently valid OMB control number.

The authority for this action is the Paperwork Reduction Act of 1995 (44 U.S.C. 3501 et seq.).

Christina Davis-Kernan,
Acting Regional Director, Lower Colorado Basin.

[FR Doc. 2025-08702 Filed 5-15-25; 8:45 am]

BILLING CODE 4332-90-P